DEPARTMENT OF ENERGY

Federal Energy Regulatory Commission

[Docket No. EC02-111-000, et al.]

AlphaGen Power LLC, et al.; Electric Rate and Corporate Regulation Filings

April 4, 2002.

Take notice that the following filings have been made with the Commission. Any comments should be submitted in accordance with Standard Paragraph E at the end of this notice.

1. AlphaGen Power LLC

[Docket No. EG02-111-000]

Take notice that on March 29, 2002, AlphaGen Power LLC (AlphaGen), a Delaware special purpose limited liability company, with its principal place of business at c/o Newcourt Capital Securities, Inc., filed with the Federal Energy Regulatory Commission (Commission) an application for determination of exempt wholesale generator (EWG) status pursuant to Part 365 of the Commission's regulations and a request for expedited action to approve this application before June 1, 2002.

AlphaGen states that it will be engaged directly and exclusively in the business of owning or operating, or both owning and operating, a 535 MW gas-fired combined-cycle power generation facility located in Jackson, Michigan (Facility). AlphaGen will lease the Facility to Triton Power Michigan LLC, which will sell the capacity exceeding its capacity exclusively at wholesale pursuant to a capacity sales and tolling agreement with Williams Energy Marketing & Trading Company. A copy of the filing was served upon the Securities and Exchange Commission, the Michigan Public Service Commission.

Comment Date: April 25, 2002.

2. Colton Power, L.P., and City of Colton, California, Complainants, v. Southern California Edison Company, Respondent

[Docket No. EL02-74-000]

Take notice that on April 3, 2002, Colton Power, L.P. and the City of Colton, California (together, Complainants) filed a complaint against Southern California Edison Company (SCE) alleging that SCE's interconnection cost allocation procedures are unjust and unreasonable under Section 206 of the Federal Power Act, 16 USC 824e (1994).

Comment Date: April 24, 2002.

3. Shell Energy Services Company, L.L.C.

[Docket No. ER99-2109-004]

Take notice that on April 1, 2002, Shell Energy Services Company, L.L.C. (Shell Energy) filed with the Federal Energy Regulatory Commission (Commission) a triennial updated market power analysis in compliance with the Commission's April 7, 1999 Order in Docket No. ER99-2109-000, which authorized Shell Energy to sell power at market-based rates.

Comment Date: April 22, 2002.

4. Mirant Neenah, L.L.C.

[Docket No. ER01-1264-002]

Take notice that on March 29, 2002, Mirant Neenah, L.L.C. (Mirant Neenah) tendered for filing an updated market-power analysis in compliance with the requirement of the order granting it authority to make power sales at market-based rates.

Comment Date: April 19, 2002.

5. Mirant California, L.L.C., Mirant Delta, L.L.C., Mirant Potrero, L.L.C.

[Docket Nos. ER01-1267-002, ER01-1270-002, and ER01-1278-002]

Take notice that on March 29, 2002, Mirant California, L.L.C., Mirant Delta, L.L.C., and Mirant Potrero, L.L.C. (collectively the Mirant California Companies) tendered for filing an updated market-power analysis in compliance with the requirement of the order granting them authority to make power sales at market-based rates.

Comment Date: April 19, 2002.

6. Midwest Independent Transmission System Operator, Inc.

[Docket No. ER02-1420-000]

Take notice that on March 29, 2002, the Midwest Independent Transmission System Operator, Inc. (Midwest ISO) pursuant to section 205 of the Federal Power Act, tendered for filing proposed changes to the Midwest ISO Open Access Transmission Tariff (Midwest ISO Tariff) and Appendices, which are necessary to incorporate the members of the Southwest Power Pool, Inc. (SPP) into the Midwest ISO Tariff in connection with the combination of the Midwest ISO and SPP (the Transaction), as set forth in the Purchase and Assumption Agreement by and between Midwest Independent Transmission System Operator, Inc. and Southwest Power Pool, Inc. dated as of March 4, 2002, and for any further approvals and authorizations, as the Commission may deem necessary, in order that the Midwest ISO and SPP may close the Transaction.

Copies of the filing were served upon the members of the Midwest ISO and the members of the SPP.

Comment Date: April 19, 2002.

7. Midwest Independent Transmission System Operator, Inc.

[Docket No. ER02-1421-000]

Take notice that on March 29, 2002, the Midwest Independent Transmission System Operator, Inc. (Midwest ISO) filed with the Commission a compliance filing of the Midwest ISO Open Access Transmission Tariff (OATT), FERC Electric Tariff, Second Revised Volume No. 1, pursuant to the Commission's January 30, 2002 Order (Midwest Independent Transmission System, 98 FERC ¶ 61,076.

The Midwest ISO requested that the Commission accept the compliance filing and subsequent changes to the OATT as effective April 1, 2002.

Copies of this filing were electronically served upon Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter.

Comment Date: April 19, 2002.

8. Louisville Gas and Electric Company

[Docket No. ER02-1423-000]

Take notice that on March 29, 2002, Ohio Edison Company. (dba FirstEnergy Solutions Corp.) filed with the Federal Energy Regulatory Commission (Commission) a termination notice for Power Sales Service with Kentucky Utilities Company. The terminated services are KU's Rate PS Power Services executed 4/29/97 and accepted by the Commission in Docket ER97-854-000.

Comment Date: April 19, 2002.

9. Arizona Public Service Company

[Docket No. ER02-1424-000]

Take notice that on March 29, 2002, Arizona Public Service Company (APS) filed with the Federal Energy Regulatory Commission (Commission) effective midnight March 31, 2002, Service Agreement No. 170 under FERC Electric Tariff, Volume No. 2, effective date April 1, 2001 is to be canceled.

Comment Date: April 19, 2002.

10. Arizona Public Service Company

[Docket No. ER02-1425-000]

Take notice that on March 29, 2002, Arizona Public Service Company (APS) filed with the Federal Energy Regulatory Commission (Commission) effective midnight the May 31, 2002, Service Agreement No. 204 under FERC Electric Tariff, Tenth Revised Volume No. 2, effective date April 1, 2002 is to be canceled.

Comment Date: April 19, 2002.

11. Arizona Public Service Company

[Docket No. ER02-1426-000]

Take notice that on March 29, 2002, Arizona Public Service Company (APS) tendered for filing a Service Agreements to provide Short-Term Firm Point-to-Point Transmission Service to Southwest Transmission Cooperative under APS” Open Access Transmission Tariff.

A copy of this filing has been served on Southwest Transmission Cooperative and the Arizona Corporation Commission.

Comment Date: April 19, 2002.

12. Illinois Power Company

[Docket No. ER02-1427-000]

Take notice that on March 29, 2002, Illinois Power Company (Illinois Power), filed with the Federal Energy Regulatory Commission (Commission) a Firm Short-Term Point-to-Point Transmission Service Agreement entered into by Illinois Power and Entergy-Koch Trading, LP.

Illinois Power requests an effective date of March 1, 2002 for the Agreements and accordingly seeks a waiver of the Commission's notice requirement. Illinois Power states that a copy of this filing has been sent to the customer.

Comment Date: April 19, 2002.

13. Illinois Power Company

[Docket No. ER02-1428-000]

Take notice that on March 29, 2002, Illinois Power Company (Illinois Power),filed with the Federal Energy Regulatory Commission (Commission) two Emergency Energy Service Agreements entered into with Wisconsin Electric Power Company and City Water Light and power Office of Public Utilities pursuant to Illinois Power's Emergency Energy Tariff.

Illinois Power requests an effective date of February 1, 2002, for both Agreements and accordingly seeks a waiver of the Commission's notice requirement. Illinois Power states that a copy of this filing has been sent to all five customers.

Comment Date: April 19, 2002.

14. California Independent System Operator Corporation

[Docket No. ER02-1429-000]

Take notice that on March 29, 2002, the California Independent System Operator Corporation (ISO) submitted for Commission filing and acceptance an amendment (Amendment No. 1) to the Utility Distribution Company Operating Agreement (UDC Operating Agreement) between the ISO and the City of Anaheim, California, as well as the revised UDC Operating Agreement incorporating the terms of Amendment No. 1 to the UDC Operating Agreement. The ISO requests that the filing be made effective as of March 15, 2002. The ISO requests privileged treatment, pursuant to 18 CFR 388.112, with regard to portions of the filing.

The ISO has served copies of this filing upon the City of Anaheim, California, the Public Utilities Commission of the State of California, and all parties in Docket No. ER98-1923.

Comment Date: April 19, 2002.

15. Commonwealth Edison Company

[Docket No. ER02-1430-000]

Take notice that on March 29, 2002, Commonwealth Edison Company (ComEd) submitted for filing an unexecuted Service Agreement for Short-Term Firm Point to Point Transmission Service and a corresponding Dynamic Scheduling Agreement with Exelon Generation Company, LLC (Exelon) under ComEd's FERC Electric Tariff, Second Revised Volume No. 5.

ComEd seeks an effective date of April 1, 2002 and, accordingly, seeks waiver of the Commission's notice requirements. ComEd states that a copy of this filing has been served on Exelon, ORMET Corporation and the Illinois Commerce Commission.

Comment Date: April 19, 2002.

16. Commonwealth Edison Company

[Docket No. ER02-1431-000]

Take notice that on March 29, 2002, Commonwealth Edison Company (ComEd) submitted for filing a Service Agreement for Network Integration Transmission Service and a corresponding Network Operating Agreement between ComEd and Exelon Generation Company (Exelon) under ComEd's FERC Electric Tariff, Second Revised Volume No. 5.

ComEd seeks an effective date of March 1, 2002 and, accordingly, seeks waiver of the Commission's notice requirements. ComEd states that a copy of this filing has been served on Exelon and the Illinois Commerce Commission.

Comment Date: April 19, 2002.

17. Central Illinois Light Company

[Docket No. ER02-1432-000]

Take notice that on March 29, 2002, Central Illinois Light Company (CILCO), filed an Interconnection Agreement with Corn Belt Energy Corporation.

Copies of the filing were served on the affected customer and the Illinois Commerce Commission.

Comment Date: April 19, 2002.

18. Midwest Independent Transmission System Operator, Inc.

[Docket No. ER02-1433-000]

Take notice that on March 29, 2002, the Midwest Independent Transmission System Operator, Inc. (Midwest ISO), the Administrator of the Mid-Continent Area Power Pool (MAPP) Tariff, submitted for filing with the Federal Energy Regulatory Commission (Commission) pursuant to Section 205 of the Federal Power Act an unexecuted Service Agreement for transmission service for Western Area Power Administration under MAPP Schedule F.

A copy of this filing was sent to Western Area Power Administration.

Comment Date: April 19, 2002.

19. Midwest Independent Transmission System Operator, Inc.

[Docket No. ER02-1434-000]

Take notice that on March 29, 2002, the Midwest Independent Transmission System Operator, Inc. (Midwest ISO), the Administrator of the Mid-Continent Area Power Pool (MAPP) Tariff, submitted for filing with the Federal Energy Regulatory Commission (Commission) pursuant to Section 205 of the Federal Power Act an unexecuted Service Agreement for transmission service for Minnesota Municipal Power Agency under MAPP Schedule F.

A copy of this filing was sent to Minnesota Municipal Power Agency .

Comment Date: April 19, 2002.

20. Midwest Independent Transmission System Operator, Inc.

[Docket No. ER02-1435-000]

Take notice that on March 29, 2002, the Midwest Independent Transmission System Operator, Inc. (Midwest ISO), the Administrator of the Mid-Continent Area Power Pool (MAPP) Tariff, submitted for filing with the Federal Energy Regulatory Commission (Commission) pursuant to Section 205 of the Federal Power Act an unexecuted Service Agreement for transmission service for North Point Energy Solutions, Inc., under MAPP Schedule F.

A copy of this filing was sent to North Point Energy Solutions, Inc.

Comment Date: April 19, 2002.

21. Midwest Independent Transmission System Operator, Inc.

[Docket No. ER02-1436-000]

Take notice that on March 29, 2002, the Midwest Independent Transmission System Operator, Inc. (Midwest ISO), the Administrator of the Mid-Continent Area Power Pool (MAPP) Tariff, submitted for filing with the Federal Energy Regulatory Commission (Commission) pursuant to Section 205 of the Federal Power Act an unexecuted Service Agreement for transmission service for Alliant Energy under MAPP Schedule F.

A copy of this filing was sent to Alliant Energy.

Comment Date: April 19, 2002.

22. Triton Power Michigan LLC

[Docket No. ER02-1437-000]

Take notice that on March 29, 2002, Triton Power Michigan LLC (TP Michigan) tendered for filing with the Federal Energy Regulatory Commission (Commission) an application for waivers and blanket approvals under various regulations of the Commission and for an order accepting TP Michigan's FERC Electric Rate Schedule No. 1. TP Michigan requests waiver of the 60-day prior notice requirement to permit TP Michigan's Rate Schedule to be effective June 1, 2002, and requests expeditious Commission approval of this Application prior to that date.

TP Michigan intends to engage in electric power and energy transactions through a tolling agreement with Williams Energy Marketing & Trading Company. In transactions where TP Michigan sells electric energy, it proposes to make such sales on rates, terms and conditions to be mutually agreed to with the purchasing party. TP Michigan's proposed Rate Schedule also permits it to reassign transmission capacity.

Comment Date: April 19, 2002.

23. Florida Power & Light Company

[Docket No. ER02-1438-000]

Take notice that on March 29, 2002, Florida Power & Light Company (FPL) tendered for filing with the Federal Energy Regulatory Commission (Commission) proposed service agreements with UBS AG, London Branch, for Non-Firm transmission service and Firm transmission service under FPL's Open Access Transmission Tariff.

FPL requests that the proposed service agreements become effective on April 1, 2002. FPL states that this filing is in accordance with Section 35 of the Commission's regulations.

Comment Date: April 19, 2002.

24. PJM Interconnection, L.L.C.

[Docket No. ER02-1439-000]

Take notice that on March 29, 2002, PJM Interconnection, L.L.C. (PJM), tendered for filing with the Federal Energy Regulatory Commission (Commission) the following executed agreements: (I) An umbrella agreement for short-term firm point-to-point service with Allegheny Power; and (ii) an umbrella agreement for non-firm point-to-point transmission service with Allegheny Power.

PJM requested a waiver of the Commission's notice regulations to permit effective date of April 1, 2002 for the agreements, consistent with the implementation of PJM West. Copies of this filing were served upon Allegheny Power, as well as the state utility regulatory commissions within the PJM control area.

Comment Date: April 19, 2002.

25. PJM Interconnection, L.L.C.

[Docket No. ER02-1440-000]

Take notice that on March 29, 2002, PJM Interconnection, L.L.C. (PJM) tendered for filing with the Federal Energy Regulatory Commission (Commission) sixteen executed and unexecuted signature pages of the PJM West Reliability Assurance Agreement among Load Serving Entities in the PJM West Region (RAA West) making the following entities parties to the RAA West: AES NewEnergy, Inc.; Allegheny Electric Cooperative, Inc.; Allegheny Power; Borough of Chambersburg; Borough of Tarentum; BP Energy Co.; FirstEnergy Solutions Corp.; Hagerstown; Old Dominion Electric Cooperative; Town of Front Royal; Town of Thurmont; Town of Williamsport; City of New Martinsville; City of Philippi; Harrison REA Inc.; Letterkenny Industrial Development Authority—PA.

PJM also tendered for filing a revised RAA West Schedule 9 to include the new parties to the list of RAA West parties.

PJM requests a waiver of the Commission's notice requirements to permit an effective date of April 1, 2002 for the RAA West signature pages and the revised RAA West Schedule 9, which is consistent with the April 1, 2002 implementation date of RAA West.

PJM states that it served a copy of its filing on all parties to the RAA West, including the parties for which a signature page is being tendered with this filing, the PJM members, and each of the state electric regulatory commissions within the PJM region.

Comment Date: April 19, 2002.

26. PJM Interconnection, L.L.C.

[Docket No. ER02-1441-000]

Take notice that on March 29, 2002, PJM Interconnection, L.L.C. (PJM), tendered for filing with the Federal Energy Regulatory Commission (Commission) fifteen executed and unexecuted service agreements for network integration transmission service with the following thirteen entities: Harrison REA Inc.; City of New Martinsville; City of Philippi; Letterkenny Industrial Development Authority-PA; Old Dominion Electric Cooperative; Town of Front Royal; Hagerstown; Borough of Chambersburg; Town of Williamsport; Town of Thurmont; Allegheny Electric Cooperative, Inc.; Borough of Tarentum; and Allegheny Power. These agreements are being entered into, and filed, in connection with the implementation of PJM West on April 1, 2002.

PJM requested a waiver of the Commission's notice requirement to permit an April 1, 2002 effective date for the agreements, consistent with the effective date for PJM West.

Copies of this filing were served upon all parties to the service agreements and the state commissions within the PJM region.

Comment Date: April 19, 2002.

27. Southwestern Electric Power Company

[Docket No. ER02-1442-000]

Take notice that on March 29, 2002, Southwestern Electric Power Company (SWEPCO) submitted for filing revisions to its PSAs with Northeast Texas Electric Cooperative, Inc. (NTEC), the City of Bentonville, Arkansas (Bentonville), the City of Hope, Arkansas (Hope), Rayburn County Electric Cooperative (Rayburn), Tex-La Electric Cooperative of Texas, Inc. (Tex-La), and East Texas Electric Cooperative, Inc. (ETEC) and the Restated and Amended Electric System Interconnection Agreement between Louisiana Generating, LLC (LaGen) and SWEPCO.

SWEPCO seeks an effective date of March 31, 2002 and, accordingly, seeks waiver of the Commission's notice requirements. SWEPCO states that a copy of this filing has been served on NTEC, Bentonville, Hope, Rayburn, LaGen, Tex-La, ETEC, the Arkansas Public Service Commission, the Louisiana Public Service Commission and the Public Utilities Commission of Texas.

Comment Date: April 19, 2002.

28. California Independent System Operator Corporation

[Docket No. ER02-1443-000]

Take notice that on March 29, 2002, the California Independent System Operator Corporation (ISO) filed Second Revised Service Agreement No. 256 Under ISO Rate Schedule No. 1, which is a Participating Generator Agreement (PGA) between the ISO and The Regents of the University of California on Behalf of Its Davis Campus Medical Center (UCDMC). The ISO has revised the PGA to update the list of generating units listed in Schedule 1 of the PGA. The ISO requests an effective date for the revision of August 2, 2001.

The ISO states that the present filing has been served on the California Public Utilities Commission and The Regents of the University of California on Behalf of its David Campus Medical Center.

Comment Date: April 19, 2002.

29. Conectiv Bethlehem, Inc.

[Docket No. ER02-1444-000]

Take notice that on March 29, 2002, Conectiv Bethlehem, Inc. (CBI) tendered for filing under the provisions of Section 205 of the Federal Power Act (FPA) a Power Purchase Agreement (PSA) and transaction agreement (collectively the Tolling Agreement) under CBI's Wholesale Market-Based Rate Tariff, FERC Electric Tariff, Original Volume No. 1. The PSA and the transaction agreement are service agreements No. 1 and 2, respectively, under CBI's Market-Based Rate Tariff.

CBI asks for an effective date of May 20, 2002.

Comment Date: April 19, 2002.

30. Allegheny Energy Service Corporation, on behalf of Monongahela Power Company, The Potomac Edison Company, and West Penn Power Company (Allegheny Power)

[Docket No. ER02-1445-000]

Take notice that on March 29, 2002, Allegheny Energy Service Corporation on behalf of Monongahela Power Company, The Potomac Edison Company, and West Penn Power Company (Allegheny Power), filed Interconnection Agreements (Agreements) with Allegheny Energy Supply Company, LLC—Dam No. 4 (Service Agreement No. 387), Allegheny Energy Supply Company, LLC—Dam No. 5 (Service Agreement No. 388), Allegheny Energy Supply Company, LLC—Luray (Service Agreement No. 389), Allegheny Energy Supply Company, LLC—Millville (Service Agreement No. 390), Allegheny Energy Supply Company, LLC—Newport (Service Agreement No. 391), Allegheny Energy Supply Company, LLC—Shenandoah (Service Agreement No. 392) and Allegheny Energy Supply Company, LLC—Warren (Service Agreement No. 393) under Allegheny Power's Open Access Transmission Tariff. The proposed effective date under the Agreements is March 30, 2002.

Copies of the filing have been provided to the Public Utilities Commission of Ohio, the Pennsylvania Public Utility Commission, the Maryland Public Service Commission, the Virginia State Corporation Commission, the West Virginia Public Service Commission, and all parties of record.

Comment Date: April 19, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-8645 Filed 4-9-02; 8:45 am]

BILLING CODE 6717-01-P